GENERAL SERVICES ADMINISTRATION

[Notice-PBS-2018-01; Docket No. 2018-0002; Sequence No. 1]

Notice of Intent To Prepare an Environmental Impact Statement (EIS) for the Modernization and Expansion of the Existing Otay Mesa Land Port of Entry (LPOE)

AGENCY: Public Building Service (PBS), General Services Administration (GSA).

ACTION: Notice of Intent; Announcement of meeting.

SUMMARY: GSA intends to prepare an EIS to analyze the potential impacts from the proposed modernization and expansion of the existing Otay Mesa LPOE. As the lead agency in this undertaking, GSA is acting on behalf of its major tenant at this facility, the Department of Homeland Security's (DHS) Customs and Border Protection (CBP).

DATES: Meeting Date: The Public Involvement and Scoping Meeting will be held on Thursday, February 8, 2018 from 4:00 p.m. to 6:00 p.m., Pacific Time (PT). Interested parties are encouraged to provide written comments regarding the scope of the EIS on or before Monday, February 19, 2018.

ADDRESSES: The meeting will be held at the Holiday Inn Express and Suites San Diego, 2296 Niels Bohr Court, San Diego, CA 92154, telephone 619-710-0900. The meeting will be conducted in an open house format, where project information will be presented and distributed.

Written comments can be submitted by either of the following methods:

• Email: osmahn.kadri@gsa.gov.

• Postal Mail/Commercial Delivery: ATT: Osmahn Kadri, 50 United Nations Plaza, Room 3345, Mailbox 9, San Francisco, CA 94102.

The views and comments of the public are necessary in helping to determine the scope and content of the environmental analysis.

FOR FURTHER INFORMATION CONTACT: Osmahn A. Kadri, Regional Environmental Quality Advisor/NEPA Project Manager, GSA, at 415-522-3617. Please also call this number if special assistance is needed to attend and participate in the public scoping meeting.

SUPPLEMENTARY INFORMATION:

Background

Otay Mesa is located approximately 17 miles southeast of downtown San Diego, just north of the U.S. border and the Baja California Peninsula of Mexico. The Otay Mesa LPOE is one of the ten busiest LPOE's in the country and is the busiest commercial port on the California/Mexico border. Ever-increasing traffic loads and new security initiatives require increased capacity and new inspection technology to be installed and implemented at existing facilities.

Alternatives

The EIS will consider two “action” alternatives and one “no action” alternative. The two “action” alternatives consist of renovation and expansion activities at the existing Otay Mesa LPOE. These activities could include the construction of additional primary inspection and exit booths; the construction of a new commercial annex building for enrollment and processing capabilities; and the relocation of the existing hazardous materials docks. Improvements could also include modifications to inspection stations and work areas, including the construction of a new Customs and Border Protection (CBP) regional training center. Enhancements could also include the construction and operation of secondary inspection areas, holding rooms, as well as the expansion of pedestrian and commercial lanes.

The “no action” alternative assumes that modernization and expansion of the existing LPOE would not occur and that a new facility would not be constructed adjacent to the existing LPOE. The LPOE would continue to operate under current conditions.

Dated: January 17, 2018.
Matthew Jear,
Director, Portfolio Management Division, Pacific Rim Region, Public Buildings Service.

[FR Doc. 2018-01281 Filed 1-23-18; 8:45 am]

BILLING CODE 6820-YF-P